DEPARTMENT OF THE INTERIOR

Minerals Management Service

Alternative Energy and Alternate Use Program

AGENCY: Minerals Management Service (MMS), Interior.

ACTION: Notice of Availability (NOA) of the Draft Programmatic Environmental Impact Statement (EIS) and Public Hearings.

SUMMARY: The Minerals Management Service (MMS) has prepared a draft programmatic environmental impact statement (EIS) in support of the proposed Alternative Energy and Alternate Use Program and associated rulemaking authorized under Section 388 of the Energy Policy Act of 2005, and codified as new subsection 8(p) of the Outer Continental Shelf Lands Act. Pursuant to the regulations implementing the National Environmental Policy Act (NEPA), the Minerals Management Service (MMS) is announcing the availability of a draft programmatic EIS for the Alternative Energy and Alternate Use (AEAU) Program and Rule. The programmatic EIS analysis focuses on the potential environmental effects of implementing the AEAU program and associated rulemaking and also analyzes alternatives to implementing the AEAU program and rule, including the “no action” alternative.

Authority: This NOA and notice of public hearings is published pursuant to the regulations (40 CFR 1506.6) implementing the provisions of the NEPA of 1969 as amended (42 U.S.C. 4321 et seq. (1988)).

SUPPLEMENTARY INFORMATION: Section 388 of the Energy Policy Act of 2005 (EPAct), granted the Department of the Interior (Department) discretionary authority to issue leases, easements, or rights-of-way for activities on the OCS that produce or support production, transportation, or transmission of energy from sources other than oil and gas, and are not otherwise authorized by other applicable law. The Department delegated this authority to the MMS. Examples of the general types of alternative energy project activities that MMS has the discretion to authorize include, but are not limited to: wind energy, wave energy, ocean current energy, solar energy, and hydrogen production.

The MMS was also delegated discretionary authority to issue leases, easements, or rights-of-way for other OCS project activities that make alternate use of existing OCS facilities for “energy-related purposes or for other authorized marine-related purposes,” to the extent such activities are not otherwise authorized by other applicable law. Such activities may include, but are not limited to: offshore aquaculture, research, education, recreation, and support for offshore operations and facilities.

A new program within MMS is being proposed to oversee these potential activities on the OCS. To satisfy the requirements of the NEPA in the establishment of an AEAU program and rules on the OCS, the MMS prepared a draft programmatic EIS. The proposed action is the implementation of the AEAU program and rules in areas not excluded by Section 388 of the EPAct. The programmatic EIS focuses on generic impacts from each industry sector based on global knowledge and identifies key issues that subsequent, site-specific assessments should consider. Projections for industry activities are limited in the EIS to those anticipated to be pursued within the next 5-7 years. The programmatic EIS also addresses AEAU technology testing and site characterization. Subsequent NEPA documents prepared for site-specific AEAU projects may tier to this programmatic EIS and the Record of Decision.

The primary objectives of the programmatic EIS are to analyze and document the potential environmental, social-cultural, and economic considerations associated with the establishment of an OCS AEAU program and rules, including all foreseeable, potential monitoring, testing, construction, commercial development, operations, and decommissioning activities on the OCS. The programmatic EIS process:

(1) Provides for public input concerning the scope of national issues associated with offshore alternate energy-related use activities;

(2) Identifies, defines, and assesses generic environmental, socio-cultural, and economic impacts associated with offshore alternate energy-related use activities;

(3) Evaluates and establishes effective mitigation measures to avoid, minimize, or compensate for potential impacts; and

(4) Facilitates future preparation of site-specific NEPA documents; subsequent NEPA documents prepared for site-specific AEAU projects may tier to the Programmatic EIS and Record of Decision.

EIS Availability: To obtain a single, printed or CD-ROM copy of the draft EIS, you may contact the Minerals Management Service, Environmental Assessment Branch Office (MS 4042), 381 Elden Street, Herndon, Virginia 20170. An electronic copy of the draft EIS is available at the MMS's Internet Web site at http://ocsenergy.anl.gov/.

Public Hearings: The MMS will hold public hearings to receive comments on the draft EIS. The public hearings are scheduled as follows:

• Monday, April 16, 2007, Main Interior Building, 1849 C Street NW., Washington, DC, 10 a.m.

• Tuesday, April 24, 2007, Monmouth University, 400 Cedar Avenue, West Long Branch, New Jersey, 7 p.m.

• Wednesday, April 25, 2007, Melville Marriott, 1350 Old Walt Whitman Road, Melville, New York, 7 p.m.

• Thursday, April 26, 2007, Marriott Boston Newton, 2345 Commonwealth Avenue, Newton, Massachusetts, 7 p.m.

• Tuesday, May 1, 2007, Houston Airport Marriott, 18700 John F. Kennedy Blvd, Houston, Texas, 7 p.m.

• Tuesday, May 1, 2007, The Presidio, 135 Fisher Loop, San Francisco, California, 7 p.m.

• Wednesday, May 2, 2007, Residence Inn and Courtyard North Harbour, 1250 N. Anchor Way, Portland, Oregon, 7 p.m.

• Wednesday, May 2, 2007, Holiday Inn Miami International Airport, 1111 South Royal Poinciana Blvd, Miami Springs, Florida, 7 p.m.

• Thursday, May 3, 2007, Courtyard by Marriott Charleston, 35 Lockwood Drive, Charleston, South Carolina, 7 p.m.

If you wish to testify at a hearing, you should register one hour prior to the meeting. Written statements submitted at a hearing will be considered part of the hearing record. If you are unable to attend the hearings, you may submit written statements.

Comments: Federal, state, local government agencies, and other interested parties are requested to send their written comments on the draft EIS in one of the following three ways:

1. Electronically using MMS's on-line commenting system at http://ocsenergy.anl.gov/. This is the preferred method for commenting.

2. In written form, mailed or delivered to MMS Alternative Energy and Alternate Use Programmatic EIS, Argonne National Laboratory, EVS/900, 9700 S. Cass Avenue, Argonne, IL 60439.

3. In person at the public hearings.

Comments should be submitted no later than 60 days from the publication of this notice.

Public Comment Policy: Before including your address, phone number, e-mail address, or other personal identifying information in your comment, be advised that your entire comment—including your personal identifying information—may be made publicly available at any time. While you can ask us in your comment to withhold from public review your personal identifying information, we cannot guarantee that we will be able to do so.

FOR FURTHER INFORMATION CONTACT: Minerals Management Service, Mr. James F. Bennett, Environmental Assessment Branch, MS 4042, 381 Elden Street, Herndon, Virginia 20710, (703) 787-1660.

Dated: February 26, 2007.
Chris C. Oynes,
Associate Director for Offshore Minerals Management.

[FR Doc. E7-5158 Filed 3-20-07; 8:45 am]

BILLING CODE 4310-MR-P